DEPARTMENT OF COMMERCE

National Institute of Standards and Technology

[Docket Number: 150414364-5364-01]

National Institute of Standards and Technology Plan for Providing Public Access to the Results of Federally Funded Research

AGENCY: National Institute of Standards and Technology, Department of Commerce.

ACTION: Notice; request for public comment.

SUMMARY: The National Institute of Standards and Technology (NIST) seeks comments on the NIST Plan for Providing Public Access to the Results of Federally Funded Research (NIST Public Access Plan). NIST is taking steps to make its scientific data and publications more readily available and accessible by the public, as directed in several recent White House memoranda. The NIST Public Access Plan applies to the results of research funded wholly or in part by NIST, presented in peer-reviewed scholarly publications and as research data. This document outlines NIST's plan for implementing new responsibilities and procedures to manage the public access of scientific data and publications. The NIST Public Access Plan was reviewed by the Office of Science and Technology Policy and the Office of Management and Budget; they approved it on December 4, 2014. Comments received on the NIST Public Access Plan will inform NIST as it revises its directives that implement the Plan.

DATES: Comments must be received by 11:59 p.m. Eastern Time on August 21, 2015 to be considered.

ADDRESSES: Written comments may be submitted by any of the following methods:

• Email: public-access@nist.gov.

• Fax: 301-975-8620, Attn: Katherine Sharpless.

• Mail: Katherine Sharpless, NIST, 100 Bureau Drive Stop 4701, Gaithersburg, MD 20899-4701.

Please be aware that all comments will be publicly posted online at http://www.nist.gov/data. Comments containing references, studies, research, and other empirical data that are not widely published should include copies of the referenced materials. All comments will be made public; therefore personal, proprietary, or confidential information should not be included.

FOR FURTHER INFORMATION CONTACT: Katherine Sharpless by phone at 301-975-3121 or by email at katherine.sharpless@nist.gov.

Please direct media inquiries to Jennifer Huergo, NIST Office of Public Affairs, by phone at 301-975-6343 or by email at jennifer.huergo@nist.gov.

SUPPLEMENTARY INFORMATION: The National Institute of Standards and Technology (NIST) is one of our Nation's oldest Federal laboratories (for more information, visit www.nist.gov). As a bureau in the Department of Commerce, the NIST mission is to promote U.S. innovation and industrial competitiveness by advancing measurement science, standards, and technology in ways that enhance economic security and improve our quality of life. From early electrical measurement research to today's quantum information science, NIST has long been, and continues to be, a center for high-impact research meeting the needs of academia, industry, and government. The NIST laboratories conduct world-class research, often in close collaboration with industry, which advances the nation's technology infrastructure and helps U.S. companies continually improve products and services.

NIST publishes this notice to seek comments on the NIST Plan for Providing Public Access to the Results of Federally Funded Research (NIST Public Access Plan), posted at www.nist.gov/data. The NIST Public Access Plan documents NIST's plan to implement new responsibilities and procedures to manage the public access of scientific data and publications. Comments received on the NIST Public Access Plan will inform NIST as it revises its directives that implement the Plan.

NIST is taking steps to make its scientific data and publications more readily available and accessible by the public, as directed in several recent White House memoranda, Office of Management and Budget Memoranda M-10-06, Open Government Directive, and M-13-13, Open Data Policy—Managing Information as an Asset; and the February 22, 2013, Office of Science and Technology Policy Memorandum, Increasing Access to the Results of Federally Funded Scientific Research.

The NIST Public Access Plan applies to the results of research funded wholly or in part by NIST, presented in peer-reviewed scholarly publications and as research data. Research data means the recorded factual material commonly accepted in the scientific community as necessary to validate research findings, but not any of the following: preliminary analyses,¹ drafts of scientific papers, plans for future research, peer reviews, or communications with colleagues. This “recorded” material excludes physical objects (e.g., laboratory samples). Research data does not include: Trade secrets, commercial information, materials necessary to be held confidential by a researcher until they are published, or similar information which is protected under law; and personnel and medical information and similar information the disclosure of which would constitute a clearly unwarranted invasion of personal privacy, such as information that could be used to identify a particular person in a research study.²

¹ For purposes of NIST's Public Access Plan, NIST considers the contents of laboratory notebooks to be preliminary analyses.

² For purposes of this notice, NIST is adopting the definition of “research data” provided in 2 CFR 200.315(e)(3). http://www.gpo.gov/fdsys/pkg/CFR-2014-title2-vol1/pdf/CFR-2014-title2-vol1-sec200-315.pdf.

Putting new plans in place to manage public access to NIST data and publications stands to significantly benefit the public and NIST by ensuring that the integrity of NIST data and publications is maintained throughout their life cycles, and by increasing the visibility of NIST measurements, standards, technology, and research activities. Stakeholder consultation is a critical step in the development of NIST's plan for managing public access to research results.

In May 2013, NIST co-sponsored two public comment meetings at the National Academy of Sciences on providing public access to federally supported R&D data and publications.³ The stakeholder input gathered at these public meetings and information from ongoing dialogue with other Federal agencies were considered in the development of the NIST Public Access Plan. NIST invites respondents to comment on the following questions that pertain to the implementation of its public access policy:

³ Public Comment Meeting Concerning Public Access to Federally Supported R&D Publications Workshop, held May 14-15, 2013, and Public Comment Meeting Concerning Public Access to Federally Supported R&D Data Workshop, held May 16-17, 2013, at the National Academy of Sciences.

• What are the best practices (from academia, industry, and other stakeholder communities) in managing public access of data?

• What are the biggest challenges to implementing a public access policy, and how can these challenges be addressed?

• What criteria could the NIST laboratories use in prioritizing the public release of datasets?

• How can NIST improve its plan to provide greater public access to NIST data?

All comments must be received in accordance with the DATES section of the notice above.

Richard Cavanagh,
Acting Associate Director for Laboratory Programs.

[FR Doc. 2015-16508 Filed 7-6-15; 8:45 am]

BILLING CODE 3510-13-P